DEPARTMENT OF HOMELAND SECURITY

Federal Emergency Management Agency

44 CFR Part 64

[Internal Agency Docket No. FEMA-8147; Docket ID FEMA-2010-0003]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region III
Washington, District of Columbia | 110001 | October 31, 1975, Emerg; November 15, 1985, Reg; September 27, 2010, Susp. | Sept. 27, 2010 | Sept. 27, 2010.
Virginia:
Abingdon, Town of, Washington County | 510169 | June 16, 1975, Emerg; March 16, 1988, Reg; September 29, 2010, Susp. | Sept. 29, 2010 | Sept. 29, 2010.
Bedford, City of, Independent City | 510015 | March 12, 1974, Emerg; June 1, 1978, Reg; September 29, 2010, Susp. | ......do | Do.
Chatham, Town of, Pittsylvania County | 510114 | June 10, 1975, Emerg; February 1, 1979, Reg; September 29, 2010, Susp. | ......do | Do.
Damascus, Town of, Washington County | 510170 | December 26, 1974, Emerg; March 16, 1988, Reg; September 29, 2010, Susp. | ......do | Do.
Danville, City of, Independent City | 510044 | October 17, 1974, Emerg; March 16, 1981, Reg; September 29, 2010, Susp. | ......do | Do.
Dickenson County, Unincorporated Areas | 510253 | August 8, 1974, Emerg; February 6, 1991, Reg; September 29, 2010, Susp. | ......do | Do.
Haysi, Town of, Dickenson County | 510046 | June 21, 1974, Emerg; January 17, 1979, Reg; September 29, 2010, Susp. | ......do | Do.
Honaker, Town of, Russell County | 510321 | February 21, 1975, Emerg; April 5, 1988, Reg; September 29, 2010, Susp. | ......do | Do.
Hurt, Town of, Pittsylvania County | 510219 | June 20, 1975, Emerg; April 2, 1979, Reg; September 29, 2010, Susp. | ......do | Do.
Lebanon, Town of, Russell County | 510222 | January 24, 1975, Emerg; January 16, 1987, Reg; September 29, 2010, Susp. | ......do | Do.
Pittsylvania County, Unincorporated Areas | 510113 | January 21, 1975, Emerg; November 4, 1981, Reg; September 29, 2010, Susp. | ......do | Do.
Washington County, Unincorporated Areas | 510168 | June 23, 1975, Emerg; March 16, 1988, Reg; September 29, 2010, Susp. | ......do | Do.
West Virginia:
Beverly, Town of, Randolph County | 540267 | September 25, 1975, Emerg; December 3, 1991, Reg; September 29, 2010, Susp. | ......do | Do.
Buckhannon, City of, Upshur County | 540199 | July 8, 1975, Emerg; September 4, 1986, Reg; September 29, 2010, Susp. | ......do | Do.
Harman, Town of, Randolph County | 540178 | December 29, 1976, Emerg; August 24, 1984, Reg; September 29, 2010, Susp. | ......do | Do.
Mill Creek, Town of, Randolph County | 540266 | April 1, 1975, Emerg; August 24, 1984, Reg; September 29, 2010, Susp. | ......do | Do.
Montrose, Town of, Randolph County | 540265 | September 25, 1975, Emerg; September 24, 1984, Reg; September 29, 2010, Susp. | ......do | Do.
Randolph County, Unincorporated Areas | 540175 | August 7, 1975, Emerg; September 27, 1991, Reg; September 29, 2010, Susp. | ......do | Do.
Upshur County, Unincorporated Areas | 540198 | February 10, 1976, Emerg; July 1, 1987, Reg; September 29, 2010, Susp. | ......do | Do.
Womelsdorf (Coalton), Town of, Randolph County | 540176 | September 5, 1975, Emerg; September 10, 1984, Reg; September 29, 2010, Susp. | ......do | Do.
Region IV
Alabama:
Franklin County, Unincorporated Areas | 010322 | N/A, Emerg; January 18, 1991, Reg; September 29, 2010, Susp. | ......do | Do.
Hodges, Town of, Franklin County | 010426 | October 30, 2006, Emerg; September 29, 2010, Reg; September 29, 2010, Susp. | ......do | Do.
Phil Campbell, Town of, Franklin County | 010333 | June 26, 2006, Emerg; September 29, 2010, Reg; September 29, 2010, Susp. | ......do | Do.
Red Bay, City of, Franklin County | 010334 | N/A, Emerg; March 1, 2006, Reg; September 29, 2010, Susp. | ......do | Do.
Russellville, City of, Franklin County | 010216 | April 4, 1974, Emerg; August 1, 1979, Reg; September 29, 2010, Susp. | ......do | Do.
Florida:
DeFuniak Springs, City of, Walton County | 120318 | June 6, 1975, Emerg; December 21, 1984, Reg; September 29, 2010, Susp. | ......do | Do.
Freeport, City of, Walton County | 120319 | N/A, Emerg; December 14, 1992, Reg; September 29, 2010, Susp. | ......do | Do.
Paxton, Town of, Walton County | 120423 | N/A, Emerg; December 16, 2004, Reg; September 29, 2010, Susp. | ......do | Do.
Walton County, Unincorporated Areas | 120317 | October 16, 1970, Emerg; November 16, 1977, Reg; September 29, 2010, Susp. | ......do | Do.
Georgia:
Chatsworth, City of, Murray County | 130141 | July 10, 1975, Emerg; July 2, 1987, Reg; September 29, 2010, Susp. | ......do | Do.
Hancock County, Unincorporated Areas | 130563 | April 17, 1998, Emerg; September 29, 2010, Reg; September 29, 2010, Susp. | ......do | Do.
McDuffie County, Unincorporated Areas | 130357 | May 26, 1998, Emerg; November 8, 2004, Reg; September 29, 2010, Susp. | ......do | Do.
Murray County, Unincorporated Areas | 130366 | May 20, 1987, Emerg; August 15, 1990, Reg; September 29, 2010, Susp. | ......do | Do.
Nelson, City of, Cherokee and Pickens Counties | 130296 | January 12, 1977, Emerg; September 29, 1986, Reg; September 29, 2010, Susp. | ......do | Do.
Pickens County, Unincorporated Areas | 130149 | December 15, 1986, Emerg; July 1, 1987, Reg; September 29, 2010, Susp. | ......do | Do.
Tift County, Unincorporated Areas | 130404 | October 1, 1979, Emerg; June 1, 1982, Reg; September 29, 2010, Susp. | ......do | Do.
Tifton, City of, Tift County | 130171 | December 27, 1973, Emerg; May 1, 1978, Reg; September 29, 2010, Susp. | ......do | Do.
Ty Ty, City of, Tift County | 130172 | January 15, 1974, Emerg; September 4, 1985, Reg; September 29, 2010, Susp. | ......do | Do.
Kentucky:
Calloway County, Unincorporated Areas | 210313 | October 20, 2005, Emerg; November 1, 2007, Reg; September 29, 2010, Susp. | ......do | Do.
Murray, City of, Calloway County | 210033 | April 22, 1975, Emerg; April 1, 1980, Reg; September 29, 2010, Susp. | ......do | Do.
Mississippi:
Amite County, Unincorporated Areas | 280268 | April 11, 1980, Emerg; August 1, 1986, Reg; September 29, 2010, Susp. | ......do | Do.
Ellisville, City of, Jones County | 280091 | March 6, 1974, Emerg; September 30, 1977, Reg; September 29, 2010, Susp. | ......do | Do.
Fayette, City of, Jefferson County | 280285 | September 26, 2008, Emerg; September 29, 2010, Reg; September 29, 2010, Susp. | ......do | Do.
Gloster, Town of, Amite County | 280004 | February 13, 1975, Emerg; June 17, 1986, Reg; September 29, 2010, Susp. | ......do | Do.
Jefferson County, Unincorporated Areas | 280214 | May 9, 1974, Emerg; July 3, 1990, Reg; September 29, 2010, Susp. | ......do | Do.
Jones County, Unincorporated Areas | 280222 | March 20, 1975, Emerg; February 16, 1990, Reg; September 29, 2010, Susp. | ......do | Do.
Laurel, City of, Jones County | 280092 | December 30, 1971, Emerg; September 15, 1977, Reg; September 29, 2010, Susp. | ......do | Do.
Liberty, Town of, Amite County | 280005 | November 29, 1974, Emerg; September 29, 1986, Reg; September 29, 2010, Susp. | ......do | Do.
South Carolina:
Arcadia Lakes, Town of, Richland County | 450171 | May 27, 1975, Emerg; November 19, 1980, Reg; September 29, 2010, Susp. | ......do | Do.
Bamberg, City of, Bamberg County | 450259 | June 7, 1996, Emerg; November 20, 1996, Reg; September 29, 2010, Susp. | ......do | Do.
Bamberg County, Unincorporated Areas | 450203 | N/A, Emerg; February 20, 1992, Reg; September 29, 2010, Susp. | ......do | Do.
Barnwell, City of, Barnwell County | 450023 | January 31, 1975, Emerg; March 2, 1989, Reg; September 29, 2010, Susp. | ......do | Do.
Barnwell County, Unincorporated Areas | 450204 | N/A, Emerg; December 19, 2000, Reg; September 29, 2010, Susp. | ......do | Do.
Blackville, Town of, Barnwell County | 450024 | July 25, 1975, Emerg; May 15, 1986, Reg; September 29, 2010, Susp. | ......do | Do.
Brunson, Town of, Hampton County | 450096 | February 20, 1976, Emerg; August 5, 1986, Reg; September 29, 2010, Susp. | ......do | Do.
Columbia, City of, Lexington and Richland Counties | 450172 | January 16, 1974, Emerg; September 2, 1981, Reg; September 29, 2010, Susp. | ......do | Do.
Denmark, Town of, Bamberg County | 450021 | June 9, 1975, Emerg; June 25, 1976, Reg; September 29, 2010, Susp. | ......do | Do.
Eastover, Town of, Richland County | 450173 | June 26, 1975, Emerg; September 30, 1988, Reg; September 29, 2010, Susp. | ......do | Do.
Estill, Town of, Hampton County | 450097 | June 20, 1975, Emerg; July 17, 1986, Reg; September 29, 2010, Susp. | ......do | Do.
Forest Acres, City of, Richland County | 450174 | July 19, 1974, Emerg; November 5, 1980, Reg; September 29, 2010, Susp. | ......do | Do.
Furman, Town of, Hampton County | 450098 | July 15, 1975, Emerg; June 3, 1986, Reg; September 29, 2010, Susp. | ......do | Do.
Hampton, Town of, Hampton County | 450100 | May 14, 1975, Emerg; May 17, 1988, Reg; September 29, 2010, Susp. | ......do | Do.
Hampton County, Unincorporated Areas | 450095 | February 13, 1976, Emerg; January 15, 1988, Reg; September 29, 2010, Susp. | ......do | Do.
Irmo, Town of, Lexington and Richland Counties | 450133 | June 27, 1975, Emerg; May 1, 1980, Reg; September 29, 2010, Susp. | ......do | Do.
Richland County, Unincorporated Areas | 450170 | September 20, 1974, Emerg; November 4, 1981, Reg; September 29, 2010, Susp. | ......do | Do.
Scotia, Town of, Hampton County | 450101 | February 19, 1976, Emerg; July 17, 1986, Reg; September 29, 2010, Susp. | ......do | Do.
Varnville, Town of, Hampton County | 450102 | May 27, 1975, Emerg; July 3, 1986, Reg; September 29, 2010, Susp. | ......do | Do.
Tennessee:
Carthage, City of, Smith County | 470176 | May 2, 1974, Emerg; September 30, 1980, Reg; September 29, 2010, Susp. | ......do | Do.
Celina, City of, Clay County | 470032 | February 27, 1975, Emerg; April 30, 1986, Reg; September 29, 2010, Susp. | ......do | Do.
Clay County, Unincorporated Areas | 470382 | March 17, 1995, Emerg; June 1, 2006, Reg; September 29, 2010, Susp. | ......do | Do.
Gordonsville, Town of, Smith County | 470395 | February 10, 1988, Emerg; February 10, 1988, Reg; September 29, 2010, Susp. | ......do | Do.
Hartsville, Town of, Trousdale County | 470093 | July 2, 1974, Emerg; August 16, 1982, Reg; September 29, 2010, Susp. | ......do | Do.
Linden, Town of, Perry County | 470145 | September 30, 1975, Emerg; August 5, 1986, Reg; September 29, 2010, Susp. | ......do | Do.
Lynchburg-Moore County, Metropolitan Government of | 470138 | May 14, 1974, Emerg; September 29, 1986, Reg; September 29, 2010, Susp. | ......do | Do.
Perry County, Unincorporated Areas | 470144 | August 10, 1999, Emerg; June 1, 2005, Reg; September 29, 2010, Susp. | ......do | Do.
Smith County, Unincorporated Areas | 470283 | February 5, 1975, Emerg; April 15, 1981, Reg; September 29, 2010, Susp. | ......do | Do.
South Carthage, Town of, Smith County | 470183 | August 11, 1975, Emerg; November 5, 1980, Reg; September 29, 2010, Susp. | ......do | Do.
Trousdale County, Unincorporated Areas | 470192 | December 12, 1975, Emerg; August 16, 1982, Reg; September 29, 2010, Susp. | ......do | Do.
Region V
Illinois:
Ashland, Village of, Cass County | 171025 | August 12, 1991, Emerg; September 29, 2010, Reg; September 29, 2010, Susp. | ......do | Do.
Beardstown, City of, Cass County | 170022 | May 9, 1975, Emerg; May 2, 1980, Reg; September 29, 2010, Susp. | ......do | Do.
Chandlerville, Village of, Cass County | 170023 | July 2, 1975, Emerg; September 18, 1986, Reg; September 29, 2010, Susp. | ......do | Do.
Virginia, City of, Cass County | 170024 | August 15, 1975, Emerg; September 1, 1986, Reg; September 29, 2010, Susp. | ......do | Do.
Indiana:
Adams County, Unincorporated Areas | 180424 | August 25, 1975, Emerg; August 3, 1981, Reg; September 29, 2010, Susp. | ......do | Do.
Berne, City of, Adams County | 180485 | October 9, 1981, Emerg; October 9, 1981, Reg; September 29, 2010, Susp. | ......do | Do.
Decatur, City of, Adams County | 180001 | April 3, 1975, Emerg; July 2, 1981, Reg; September 29, 2010, Susp. | ......do | Do.
Geneva, Town of, Adams County | 180002 | May 30, 1975, Emerg; November 1, 1984, Reg; September 29, 2010, Susp. | ......do | Do.
Ohio:
Defiance County, Unincorporated Areas | 390143 | September 12, 1978, Emerg; August 2, 1990, Reg; September 29, 2010, Susp. | ......do | Do.
Defiance, City of, Defiance County | 390144 | June 9, 1975, Emerg; March 4, 1985, Reg; September 29, 2010, Susp. | ......do | Do.
Georgetown, Village of, Brown County | 390035 | July 2, 1975, Emerg; July 6, 1984, Reg; September 29, 2010, Susp. | ......do | Do.
Hicksville, Village of, Defiance County | 390145 | July 7, 1975, Emerg; August 1, 1987, Reg; September 29, 2010, Susp. | ......do | Do.
Mount Orab, Village of, Brown County | 390621 | January 16, 2001, Emerg; November 21, 2001, Reg; September 29, 2010, Susp. | ......do | Do.
Ney, Village of, Defiance County | 390850 | September 9, 1991, Emerg; June 1, 1992, Reg; September 29, 2010, Susp. | ......do | Do.
Region VI
Oklahoma:
Comanche, City of, Stephens County | 405376 | March 5, 1971, Emerg; December 23, 1971, Reg; September 29, 2010, Susp. | ......do | Do.
Coyle, Town of, Logan County | 400097 | June 7, 1985, Emerg; July 1, 1987, Reg; September 29, 2010, Susp. | ......do | Do.
Crescent, City of, Logan County | 400098 | July 7, 1975, Emerg; March 16, 1982, Reg; September 29, 2010, Susp. | ......do | Do.
Duncan, City of, Stephens County | 400202 | January 16, 1974, Emerg; August 1, 1979, Reg; September 29, 2010, Susp. | ......do | Do.
Gore, Town of, Sequoyah County | 400195 | July 25, 1975, Emerg; September 1, 1981, Reg; September 29, 2010, Susp. | ......do | Do.
Guthrie, City of, Logan County | 400099 | June 27, 1975, Emerg; December 2, 1980, Reg; September 29, 2010, Susp. | ......do | Do.
Logan County, Unincorporated Areas | 400096 | October 26, 1984, Emerg; December 5, 1989, Reg; September 29, 2010, Susp. | ......do | Do.
Marble City, Town of, Sequoyah County | 400304 | September 22, 1976, Emerg; August 19, 1985, Reg; September 29, 2010, Susp. | ......do | Do.
Marlow, City of, Stephens County | 400203 | April 2, 1976, Emerg; September 1, 1987, Reg; September 29, 2010, Susp. | ......do | Do.
Marshall, Town of, Logan County | 400306 | August 13, 1976, Emerg; August 1, 1987, Reg; September 29, 2010, Susp. | ......do | Do.
Moffett, Town of, Sequoyah County | 400196 | September 2, 1976, Emerg; April 15, 1982, Reg; September 29, 2010, Susp. | ......do | Do.
Muldrow, Town of, Sequoyah County | 400197 | July 31, 1975, Emerg; April 15, 1982, Reg; September 29, 2010, Susp. | ......do | Do.
Roland, Town of, Sequoyah County | 400198 | November 17, 1975, Emerg; January 20, 1982, Reg; September 29, 2010, Susp. | ......do | Do.
Sallisaw, City of, Sequoyah County | 400199 | January 30, 1974, Emerg; January 2, 1980, Reg; September 29, 2010, Susp. | ......do | Do.
Sequoyah County, Unincorporated Areas | 400503 | July 20, 1984, Emerg; January 2, 1991, Reg; September 29, 2010, Susp. | ......do | Do.
Texas:
Angelina County, Unincorporated Areas | 480007 | March 29, 1996, Emerg; July 1, 1998, Reg; September 29, 2010, Susp. | ......do | Do.
Diboll, City of, Angelina County | 480008 | April 10, 1975, Emerg; February 6, 1991, Reg; September 29, 2010, Susp. | ......do | Do.
Easton, Village of, Gregg and Rusk Counties | 481145 | December 7, 1988, Emerg; December 1, 1989, Reg; September 29, 2010, Susp. | ......do | Do.
Grayson County, Unincorporated Areas | 480829 | November 12, 1981, Emerg; May 18, 1992, Reg; September 29, 2010, Susp. | ......do | Do.
Grey Forest, City of, Bexar County | 480039 | November 14, 1975, Emerg; July 16, 1980, Reg; September 29, 2010, Susp. | ......do | Do.
Gunter, Town of, Grayson County | 480832 | June 7, 1985, Emerg; January 18, 1988, Reg; September 29, 2010, Susp. | ......do | Do.
Huntington, City of, Angelina County | 481077 | August 23, 2001, Emerg; August 1, 2008, Reg; September 29, 2010, Susp. | ......do | Do.
Kilgore, City of, Gregg and Rusk Counties | 480263 | July 29, 1975, Emerg; July 2, 1981, Reg; September 29, 2010, Susp. | ......do | Do.
Lufkin, City of, Angelina County | 480009 | June 20, 1973, Emerg; June 1, 1982, Reg; September 29, 2010, Susp. | ......do | Do.
Mount Enterprise, City of, Rusk County | 481124 | March 6, 2009, Emerg; September 29, 2010, Reg; September 29, 2010, Susp. | ......do | Do.
Rusk County, Unincorporated Areas | 480993 | July 22, 1985, Emerg; September 27, 1991, Reg; September 29, 2010, Susp. | ......do | Do.
Sherman, City of, Grayson County | 485509 | May 22, 1970, Emerg; June 4, 1971, Reg; September 29, 2010, Susp. | ......do | Do.
Tatum, City of, Panola and Rusk Counties | 480995 | March 31, 1982, Emerg; April 17, 1985, Reg; September 29, 2010, Susp. | ......do | Do.
Zavalla, City of, Angelina County | 485527 | October 8, 2002, Emerg; September 29, 2010, Reg; September 29, 2010, Susp. | ......do | Do.
Region VII
Missouri:
Foley, City of, Lincoln County | 290210 | March 21, 1974, Emerg; March 1, 1978, Reg; September 29, 2010, Susp. | ......do | Do.
Laclede County, Unincorporated Areas | 290811 | N/A, Emerg; February 24, 1993, Reg; September 29, 2010, Susp. | ......do | Do.
Lebanon, City of, Laclede County | 290197 | August 30, 1974, Emerg; June 1, 1982, Reg; September 29, 2010, Susp. | ......do | Do.
Lincoln County, Unincorporated Areas | 290869 | June 9, 1980, Emerg; March 15, 1984, Reg; September 29, 2010, Susp. | ......do | Do.
Old Monroe, City of, Lincoln County | 290211 | June 13, 1974, Emerg; August 15, 1978, Reg; September 29, 2010, Susp. | ......do | Do.
Silex, Village of, Lincoln County | 290212 | November 1, 1976, Emerg; September 16, 1982, Reg; September 29, 2010, Susp. | ......do | Do.
Troy, City of, Lincoln County | 290641 | April 17, 1980, Emerg; May 5, 1981, Reg; September 29, 2010, Susp. | ......do | Do.
Winfield, City of, Lincoln County | 290213 | April 18, 1974, Emerg; November 17, 1982, Reg; September 29, 2010, Susp. | ......do | Do.
Region VIII
South Dakota:
Brown County, Unincorporated Areas | 460006 | April 9, 1973, Emerg; September 30, 1988, Reg; September 29, 2010, Susp. | ......do | Do.
Columbia, City of, Brown County | 460008 | N/A, Emerg; April 7, 1994, Reg; September 29, 2010, Susp. | ......do | Do.
Davison County, Unincorporated Areas | 460020 | May 14, 1986, Emerg; April 1, 1987, Reg; September 29, 2010, Susp. | ......do | Do.
Mitchell, City of, Davison County | 460021 | December 23, 1974, Emerg; February 1, 1979, Reg; September 29, 2010, Susp. | ......do | Do.
Mount Vernon, City of, Davison County | 460022 | July 16, 1975, Emerg; June 11, 1976, Reg; September 29, 2010, Susp. | ......do | Do.
Warner, City of, Brown County | 460298 | February 26, 1997, Emerg; June 8, 1998, Reg; September 29, 2010, Susp. | ......do | Do.
Utah:
Box Elder County, Unincorporated Areas | 490005 | December 17, 1974, Emerg; September 1, 1987, Reg; September 29, 2010, Susp. | ......do | Do.
Brigham City, City of, Box Elder County | 490006 | November 1, 1974, Emerg; August 17, 1981, Reg; September 29, 2010, Susp. | ......do | Do.
Corinne, City of, Box Elder County | 490197 | September 28, 1977, Emerg; July 15, 1980, Reg; September 29, 2010, Susp. | ......do | Do.
Honeyville, City of, Box Elder County | 490008 | March 1, 1976, Emerg; July 29, 1980, Reg; September 29, 2010, Susp. | ......do | Do.
Mantua, Town of, Box Elder County | 490009 | August 20, 1975, Emerg; July 8, 1980, Reg; September 29, 2010, Susp. | ......do | Do.
Perry City, City of, Box Elder County | 490010 | August 18, 1975, Emerg; May 20, 1980, Reg; September 29, 2010, Susp. | ......do | Do.
Willard, City of, Box Elder County | 490011 | January 16, 1976, Emerg; July 1, 1987, Reg; September 29, 2010, Susp. | ......do | Do.
Region X
Alaska:
Sitka, City and Borough of. | 020006 | November 8, 1974, Emerg; June 1, 1982, Reg; September 29, 2010, Susp. | ......do | Do.
Oregon:
Albany, City of, Benton and Linn Counties | 410137 | July 2, 1974, Emerg; April 3, 1985, Reg; September 29, 2010, Susp. | ......do | Do.
Brownsville, City of, Linn County | 410138 | August 19, 1974, Emerg; August 17, 1981, Reg; September 29, 2010, Susp. | ......do | Do.
Harrisburg, City of, Linn County | 410140 | December 31, 1974, Emerg; February 3, 1982, Reg; September 29, 2010, Susp. | ......do | Do.
Lebanon, City of, Linn County | 410141 | June 10, 1975, Emerg; July 2, 1981, Reg; September 29, 2010, Susp. | ......do | Do.
Linn County, Unincorporated Areas | 410136 | April 9, 1974, Emerg; September 29, 1986, Reg; September 29, 2010, Susp. | ......do | Do.
Lyons, City of, Linn County | 410142 | February 28, 1975, Emerg; December 15, 1981, Reg; September 29, 2010, Susp. | ......do | Do.
Mill City, City of, Linn County | 410143 | May 20, 1975, Emerg; March 1, 1979, Reg; September 29, 2010, Susp. | ......do | Do.
Millersburg, City of, Linn County | 410284 | July 21, 1982, Emerg; July 21, 1982, Reg; September 29, 2010, Susp. | ......do | Do.
Scio, City of, Linn County | 410144 | August 15, 1974, Emerg; August 1, 1984, Reg; September 29, 2010, Susp. | ......do | Do.
Sweet Home, City of, Linn County | 410146 | April 17, 1975, Emerg; March 1, 1982, Reg; September 29, 2010, Susp. | ......do | Do.
Tangent, City of, Linn County | 410147 | September 5, 1975, Emerg; May 17, 1982, Reg; September 29, 2010, Susp. | ......do | Do.
*-do- = Ditto.
Code for reading third column: Emerg.—Emergency; Reg.—Regular; Susp.—Suspension.

Dated: September 1, 2010.
Sandra K. Knight,
Deputy Federal Insurance and Mitigation Administrator, Mitigation.

[FR Doc. 2010-22586 Filed 9-9-10; 8:45 am]

BILLING CODE 9110-12-P